DEPARTMENT OF JUSTICE

Antitrust Division

Notice Pursuant to the National Cooperative Research and Production Act of 1993—Telemanagement Forum

Notice is hereby given that, on February 8, 2007, pursuant to Section 6(a) of the National Cooperative Research and Production Act of 1993, 15 U.S.C. 4301 et seq. (“the Act”), Telemanagement Forum (“the Forum”) filed written notifications simultaneously with the Attorney General and the Federal Trade Commission disclosing changes in its membership. The notifications were filed for the purpose of extending the Act's provisions limiting the recovery of antitrust plaintiffs to actual damages under specified circumstances. Specifically, 24 Online Oy, Espoo, FINLAND; ADVA AG Optical Networking, Munich, GERMANY; ADVA Optical Networking Inc., Mahwah, NJ; ArcSight, Cupertino, CA; ArtinSoft LLC, Herndon, VA; BH Telecom, Joint Stock Company Sarajevo, Sarajevo, BOSNIA-HERZEGOVINA; BOYRA, Bogota, COLOMBIA; Brennan Software Development PTY LTD, Sydney, NSW, AUSTRALIA; Cadence LLC, Denver, CO; CASCADE Limited, Quarry Bay, PEOPLE'S REPUBLIC OF CHINA; Catalyst IT Partners Ltd, London, UNITED KINGDOM; Chalmers Associates, Congleton, UNITED KINGDOM; China Link Communications LTD., Shanghai, PEOPLE'S REPUBLIC OF CHINA; CIMI Corp., Voorhees, NJ; Citizens Telecom Services Company L.L.C., Stamford, CT; Cogitas, Utrecht, NETHERLANDS; Comergent Technologies, Redwood City, CA; Cosmote, Athens, GREECE; Cox Communications, Atlanta, GA; Dimetis GmbH, Dietzenbach, GERMANY; Dubai World Center, Dubai, UNITED ARAB EMIRATES; EDEL Consulting, Zurich, SWITZERLAND; EITC, Dubai, UNITED ARAB EMIRATES; EMBARQ, Overland Park, KS; Etisalat UAE, Abu Dhabi, UNITED ARAB EMIRATES; EVSC, Seoul, REPUBLIC OF KOREA; Factdelta, Swansea, UNITED KINGDOM; Fluke Networks, Duluth, GA; Great Bear International Services (Pvt) Ltd., Islamabad, PAKISTAN; Highdeal, Caen, FRANCE; Integra Consultores, Caracas, VENEZUELA; Jose Ricardo Formagio Bueno, Sao Paulo, BRAZIL; Kentor IT AB, Stockholm, SWEDEN; LMU Munich, Munich, GERMANY; Manconsult Development, Vastra Gotaland, SWEDEN; Metrocom Inc., Miami, FL; Mission Critical, Braine-l'Alleud, BELGIUM; MTN Network Solutions (Pty) Limited, Gauteng, SOUTH AFRICA; NetScout Systems, Westford, MA; Networked/Assets GmbH, Berlin, Germany; NetworkMining, Mechelen, Belgium; Newsdesk Media Group, London, UNITED KINGDOM; Northrup Grumman, Los Angeles, CA; OKB Telecom, Moscow, RUSSIA; Orascom Telecom Holding, Cairo, EGYPT; Orga Systems GmbH, Paderborn, GERMANY; Orishatech, Glen Echo, MD; OSS Terrace, Cupertino, CA; PT Bandung TalentSource, Jakarta, INDONESIA; Qosmos, Paris, FRANCE; Reachview Technologies Inc., Atlanta, GA; Revenue Protect Limited, Hatfield, UNITED KINGDOM; Selectica, Bracknell, UNITED KINGDOM; SERVA Software Inc., Wichita Falls, TX; Servei de Telecomunicacions d'Andorra, Andorra la Vella, ANDORRA; Sheerscape Inc., Austin, TX; Solegy LLC, New York, NY; Soluziona Mexico S.A. de C.V., Mexico City, MEXICO; Switchlab, London, UNITED KINGDOM; TelcoSI, Sydney, NSW, AUSTRALIA; Telefonica 02 Czech Republic, a.s., Prague 3, CZECH REPUBLIC; Teracom AB, Sundbyberg, SWEDEN; TerreStar Networks, Reston, VA; THUS, Glasgow, UNITED KINGDOM; TIM Hellas, Athens, GREECE; Time Warner Cable, Herndon, VA; Tiscali International Network, Utrecht, NETHERLANDS; Vernikov and Partners Group, Moscow, RUSSIA; Virgin Mobile, Trowbridge, Wiltshire, UNITED KINGDOM; Wireless Maingate Nordic AB, Karlskrona, SWEDEN; Zenulta Limited, Swindon, Wiltshire, UNITED KINGDOM; and ZIRA Ltd., Sarajevo, BOSNIA-HERZEGOVINA, have been added as parties to this venture.

Also, Acterna, Atlanta, GA; al-ELM Information Security, Riyadh, SAUDI ARABIA; Borland Corporation, Scotts Valley, CA; Cherrytee Solutions Limited, TaliNadu, INDIA; ClickSoftware Inc., Burlington, MA; Connexion by Boeing, Irvine, CA; Digital Fairway Corporation, Toronto, Ontario, CANADA; Distocraft Oy, Helsinki, FINLAND; Dubai Internet City, Dubai, UNITED ARAB EMIRATES; Emirates, Abu Dhabi, UNITED ARAB EMIRATES; ERM, Sao Paulo, BRAZIL; ExpertEdge Software & Systems Limited, Lagos, NIGERIA; FineGrain Networks, Ltd., Fairview, TX; Frost & Sullivan, Beijing, PEOPLE's REPUBLIC OF CHINA; Gamma Projects, Magor, Monmouthshire, UNITED KINGDOM; Grupo Auna, Barcelona, SPAIN; IDS Scheer Japan Co., Ltd., Tokyo, JAPAN; Information-control LLC, Gaithersburg, MD; InfoRoad AB, Uppsala, SWEDEN; InterAcct Solutions, Sydney, NSW, AUSTRALIA; IP Value GmbH, Dortmund, GERMANY; IPANEMA TECHNOLOGIES, Fontenay aux Roses, FRANCE; Jamcracker, Inc., Santa Clara, CA; LG TeleCom, Seoul, REPUBLIC OF KOREA; Mangrove Systems, Inc., Wallingford, CT; Martin Dawes Systems, Fearnhead, UNITED KINGDOM; Noventum Consulting GmbH, Muenster, GERMANY; OKB Telecom, Moscow, RUSSIA; Olista, Natanya, ISRAEL; ORMvision, Lochristi, BELGIUM; Pelagic Group, Singapore, SINGAPORE; PMCL MOBILINK, Islamabad, PAKISTAN; Pontis Inc., Gill Yam, ISRAEL; Practical Enterprise Architecture P/L, Bentleigh, Victoria, AUSTRALIA; proCaptura as, Billingstad, NORWAY; RGAE, Longueuil, Quebec, CANADA; RosettaNet, Santa Ana, CA; Ryder Systems, Blackburn, UNITED KINGDOM; Sleepycat Software, Inc., Lincoln, MA; Spirent Communications, Rockville, MD; Subex Systems Limited, Bangalore, INDIA; Technology Optimisation Consultants Ltd., Bishoptown, IRELAND; Ukranian Mobile Communications UMC, Kiev, UKRAINE; Valaran Corporation, Cranbury, NJ; VokeTel, Concord, Ontario, CANADA; Voyence, Richardson, TX; and ZTE Technology Center, Shenchen PEOPLE'S REPUBLIC OF CHINA, have withdrawn as parties to this venture.

The following members have changed their names: Advav Optical Networking to ADVA AG Optical Networking, Munich, GERMANY; Teleca Sweden South to auSystems Sweden South, Stockholm, SWEDEN; Bell South to BellSouth, Atlanta, GA; Brennan IT to Brennan Software Development PTY LTD, Sydney, NSW, AUSTRALIA; Catalyst IT Partners Limited to Catalyst IT Partners Ltd., London, UNITED KINGDOM; Cominfo to Cominfo Consulting, Moscow, RUSSIA; Cramer Systems Limited to Cramer Amdocs OSS Division, Bath, UNITED KINGDOM; SI-TECH Information Technology Ltd. to Digital China (SI-TECH) Information Technology Ltd., Beijing, PEOPLE'S REPUBLIC OF CHINA; du/Emirates Integrated Telecoms Company to EITC, Dubai, UNITED ARAB EMIRATES; Flextronics Software Systems Ltd. to Flextronics Software Systems, Haryana, INDIA; Bonus Technology, Inc. to GlobalLogic, Newark, NJ; IONA to IONA Technologies, Waltham, MA; MRN Network Solutions to MTN Network Solutions (PTY) Limited, Randburg, SOUTH AFRICA; Wanadoo UK to Orange Home UK PLC, London, UNITED KINGDOM; Patni Computer Services to Patni Computer Systems, Fremont, CA; Pantero Corp. to Progress Software, Waltham, MA; Progress to Progress Software, Waltham, MA; Siemens AG to Siemens Networks GmbH & Co. KG, Milano, ITALY; Azure Solutions to Subex Azure Ltd., Bangalore, INDIA; Heerklotz GmbH to teleconvergence GmbH, Olching, GERMANY; TDS to Telephone and Data Systems, Inc, Chicago, IL; TNO Telecom to TNO Information & Communication Technology, Delft, NETHERLANDS; SMI Telco Ltd. to TuringSMI, Fareham, Hampshire, UNITED KINGDOM; Vodacom South Africa to Vodacom (PTY) Ltd., Gauteng, SOUTH AFRICA; and VPI Systems to VPI Systems-NJ, Holmdel, NJ.

The following members have changed their addresses: Aircom International Ltd. to Leatherhead, UNITED KINGDOM; Atreus Systems to Ottawa, Ontario, CANADA; Cognizant Technology Solutions Corporation to Teaneck, NJ; Cominfo Consulting to Moscow, RUSSIA; Computer Sciences Corporation to Wiesbaden, GERMANY; Fortinet, Inc. to Sunnyvale, CA; INOSS, Inc. to Spicewood, TX; Leapstone Systems to Somerset, NJ; Siemens Network GmbH & Co. KG to Muenchen, GERMANY; Soluziona Mexico S.A. de C.V. to Mexico City, MEXICO; STC KOMSET to Moscow, RUSSIA; Subex Azure Ltd. to Bangalore, INDIA; Telchemy Incorporated to Duluth, GA; Teracom AB to Sundbyberg, SWEDEN; and VPI Systems-NJ to Holmdel, NJ.

No other changes have been made in either the membership or planned activity of the group research project. Membership in this group research project remains open, and the Forum intends to file additional written notifications disclosing all changes in membership.

On October 21, 1988, the Forum filed its original notification pursuant to Section 6(a) of the Act. The Department of Justice published a notice in the Federal Register pursuant to Section 6(b) of the Act on December 8, 1988 (53 FR 49615).

The last notification was filed with the Department on August 11, 2006. A notice was published in the Federal Register pursuant to Section 6(b) of the Act on October 2, 2006 (71 FR 58006).

Patricia A. Brink,
Deputy Director of Operations, Antitrust Division.

[FR Doc. 07-1725 Filed 4-6-07; 8:45 am]

BILLING CODE 4410-11-M